DEPARTMENT OF COMMERCE

Foreign-Trade Zones Board

[B-66-2019]

Foreign-Trade Zone (FTZ) 122—Corpus Christi, Texas, Authorization of Production Activity, Cheniere Energy, Inc. (Liquified Natural Gas Processing), Portland, Texas

On October 16, 2019, the Port of Corpus Christi Authority, grantee of FTZ 122, submitted a notification of proposed production activity to the FTZ Board on behalf of Cheniere Energy, Inc., within FTZ 122, in Portland, Texas.

The notification was processed in accordance with the regulations of the FTZ Board (15 CFR part 400), including notice in the Federal Register inviting public comment (84 FR 57845, October 29, 2019). On February 13, 2020, the applicant was notified of the FTZ Board's decision that no further review of the activity is warranted at this time. The production activity described in the notification was authorized, subject to the FTZ Act and the FTZ Board's regulations, including Section 400.14.

Dated: February 13, 2020.
Andrew McGilvray,
Executive Secretary.

[FR Doc. 2020-03381 Filed 2-19-20; 8:45 am]

BILLING CODE 3510-DS-P